ENVIRONMENTAL PROTECTION AGENCY

40 CFR Part 180

[EPA-HQ-OPP-2020-0053; FRL-10005-58]

Receipt of a Pesticide Petition Filed for Residues of Pesticide Chemicals in or on Various Commodities (January 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before April 2, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

1. PP 9F8761. (EPA-HQ-OPP-2020-0046). Syngenta Crop Protection, LLC, P.O. Box 18300, Greensboro, NC 27419, requests to amend the tolerances in 40 CFR 180.662 for residues of the herbicide trinexapac-ethyl in or on Sugarcane, cane at 1.5 parts per million (ppm) and Sugarcane, molasses at 5.0 ppm. The method for determining the residues in crops, expressed as major metabolite CGA-179500 is LC-MS-MS and is used to measure and evaluate the chemical trinexapac-ethyl. Contact: RD.

2. PP 9F8764. (EPA-HQ-OPP-2020-0047). Syngenta Crop Protection, LLC. P.O. Box 18300, Greensboro, NC 27419, requests to amend the tolerances in 40 CFR 180.368 for residues of the herbicide S-metolachlor in or on soybeans at 1.0 ppm and grain, aspirated fractions at 2.0 ppm. The analytical method of gas chromatography-nitrogen phosphorus detection (GC/NPD) is used to measure and evaluate the chemical S-metolachlor. Contact: RD.

B. New Tolerances for Non-Inerts

1. PP 9F8753. (EPA-HQ-OPP-2020-0010). Valent BioSciences LLC, 870 Technology Way, Libertyville, IL 60048, requests to establish a tolerance in 40 CFR part 180 for residues of the plant regulator, Aminoethoxyvinylglycine in or on apple and pear at 0.065 ppm. The high-performance liquid chromatography analytical method is used to measure and evaluate the chemical Aminoethoxyvinylglycine. Contact: BPPD.

Commodity | Level
Apple | 0.065
Pear | 0.065

2. PP 9F8776. EPA-HQ-OPP-2019-0580. Nichino America, Inc., 4550 Linden Hill Road, Suite 501, Wilmington, Delaware 19808, requests to amend the tolerances in 40 CFR part 180 for residues of the herbicide, orthosulfamuron, in or on almonds hulls at 0.03 ppm; small fruit vine climbing subgroup, except fuzzy kiwifruits (crop subgroup 13-07F) at 0.01 ppm; and tree nuts (crop group 14-12) at 0.01 ppm. An independently validated analytical method was used to measure and evaluate the chemical orthosulfamuron. Contact: RD.

3. PP 9F8777. EPA-HQ-OPP-2019-0542. Syngenta Crop Protection, LLC, P.O. Box 18300, Greensboro, NC 27419, requests to establish a tolerance in 40 CFR part 180 for residues of the herbicide, bicyclopyrone, in or on lemongrass, dried at 0.5 ppm; lemongrass, fresh at 0.3 ppm; rosemary, dried at 0.3 ppm; rosemary, fresh at 0.3 ppm; wormwood, dried at 0.09 ppm; and wormwood, fresh at 05 ppm. Analytical methods: GRM030.05A, GRM030.05B, and GRM030.08A were used to measure and evaluate the chemical bicyclopyrone. Contact: RD.

4. PP 9F8804. (EPA-HQ-OPP-2020-0022). Clarke Mosquito Control Products, Inc., 675 Sidwell Court, St. Charles, IL 60174, requests to establish tolerances in 40 CFR part 180 for the combined residues of the insecticide spinetoram, expressed as a combination of XDE-175-J: 1-H-as-indaceno[3,2-d]oxacyclododecin-7,15-dione, 2-[6-deoxy-3-O-ethyl-2,4-di-O-methyl-α-L-mannopyranosyl)oxy]-13-[[(2R,5S,6R)-5-(dimethylamino)tetrahydro-6-methyl-2H-pyran-2-yl]oxy]-9ethyl-2,3,3a,4,5,5a,5b,6,9,10,11,12,13,14,16a,16b-hexadecahydro 14-methyl-, (2R,3aR,5aR,5bS,9S,13S,14R,16aS,16bR); XDE-175-L: 1H-as-indaceno[3,2-d]oxacyclododecin-7,15-dione, 2-[(6deoxy-3-O-ethyl-2,4-di-O-methyl-α-L-mannopyranosyl)oxy]-13-[[(2R,5S,6R)-5(dimethylamino)tetrahydro-6-methyl-2H-pyran-2-yl]oxy]-9-ethyl-2,3,3a,5a,5b,6,9,10,11,12,13,14,16a,16b-tetradecahydro-4,14-dimethyl-(2S,3aR,5aS,5bS,9S,13S,14R,16aS,16bS); ND-J: (2R,3aR,5aR,5bS,9S,13S,14R,16aS,16bR)-9-ethyl-14-methyl-13[[(2S,5S,6R)-6-methyl-5-(methylamino)tetrahydro-2H-pyran-2-yl]oxy]-7,15-dioxo-2,3,3a,4,5,5a,5b,6,7,9,10,11,12,13,14,15,16a,16b-octadecahydro-1H-as-indaceno[3,2-d]oxacyclododecin-2-yl6-deoxy-3-O-ethyl-2,4-di-O-methyl-α-L-mannopyranoside; and NF-J: (2R,3S,6S)-6-([(2R,3aR,5aR,5bS,9S,13S,14R,16aS,16bR)-2-[(6-deoxy-3-O-ethyl-2,4-di-O-methyl-α-L-mannopyranosyl)oxy]-9-ethyl-14-methyl-7,15-dioxo-2,3,3a,4,5,5a,5b,6,7,9,10,11,12,13,14,15,16a,16b-octadecahydro-1H-as-indaceno[3,2-d]oxacyclododecin-13-yl]oxy)-2-methyltetrahydro-2H-pyran-3-yl(methyl)formamide in or on fish at 4.0 ppm; fish-shellfish, crustacean at 4.0 ppm; fish-shellfish, mollusc at 4.0 ppm; grass, forage, fodder, and hay, group 17 forage at 10.0 ppm; grass, forage, fodder, and hay, group 17 hay at 5.0 ppm; animal feed, nongrass, group 18, forage at 35.0 ppm; and animal feed, nongrass, group 18, hay at 30.0 ppm. The EPA has determined adequate tolerance enforcement methods are available for spinetoram residues in a variety of plant and animal matrices including a number of high-performance liquid chromatography (HPLC)/Mass Spectrometry (MS)/MS methods. Additional details on the analytical methods can be found in the supporting documentation in Docket ID: EPA-HQ-OPP-2011-0666-0025. Contact: RD.

5. PP 9F8809. (EPA-HQ-OPP-2020-0004). Nichino America, Inc., 4550 Linden Hill Road, Suite 501, Wilmington, DE 19808, requests to establish a tolerance in 40 CFR part 180 for residues of the herbicide, pyraclonil in or on tice at 0.01 ppm. An independently validated analytical method is used to measure and evaluate the chemical pyraclonil. Contact: RD

Authority: 21 U.S.C. 346a.

Dated: February 19, 2020.
Delores Barber,
Director, Information Technology and Resources Management Division, Office of Pesticide Programs.

[FR Doc. 2020-04265 Filed 3-2-20; 8:45 am]

BILLING CODE 6560-50-P